DEPARTMENT OF THE INTERIOR

National Park Service

[NPS-WASO-NRNHL-DTS#-33264; PPWOCRADI0, PCU00RP14.R50000]

National Register of Historic Places; Notification of Pending Nominations and Related Actions

AGENCY: National Park Service, Interior.

ACTION: Notice.

SUMMARY: The National Park Service is soliciting electronic comments on the significance of properties nominated before January 8, 2022, for listing or related actions in the National Register of Historic Places.

DATES: Comments should be submitted electronically by February 3, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 8, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

IOWA

Carroll County

Carroll City-Mount Olivet Cemetery, South Grant Rd., Carroll, SG100007432

KANSAS

Wabaunsee County

Mount Mitchell Heritage Prairie Historic District, 29377 Mitchell Prairie Ln., Wamego, SG100007422

MISSISSIPPI

Adams County

Spokane Mound Archaeological Site, Address Restricted, Natchez vicinity, SG100007425

Carroll County

Carrollton Water Tower, 100 Lexington St. Extended, Carrollton, SG100007424

Issaquena County

Blackwell, Unita, House, 139 Rosebud St., Mayersville, SG100007426

Warren County

CSA Powder Magazine and Site of Battery No. 4, 600 Fort Hill Dr., Vicksburg, SG100007427

MISSOURI

Randolph County

Commerce Bank, 208 West Reed St., Moberly, SG100007420

Warren County

Treloar Mercantile and Farmer's Bank of Treloar HD, 2 MKT St., Treloar, SG100007419

NEVADA

Clark County

Las Vegas High School Historic District, (Historic School Buildings in the Evolution of the Fifth Supervision School District MPS), 315 South 7th St., 925 East Clark Ave., Las Vegas, MP100007431

Washoe County

St. Thomas Aquinas Cathedral Complex, (Architecture of Frederick J. DeLongchamps TR), 310 West 2nd St., Reno, MP100007430

OHIO

Richland County

Dickey, Moses and Margaret, House, 159 North Walnut St., Mansfield, SG100007421

TEXAS

Dallas County

Gospel Lighthouse Church, 1900 South Ewing Ave., Dallas, SG100007423

A request for removal has been made for the following resource:

MISSOURI

Laclede County

Laclede County Jail, Adams and 3rd Sts., Lebanon, OT80002372

Additional documentation has been received for the following resources:

CALIFORNIA

Contra Costa County

Martinez Downtown Post Office (Additional Documentation), (US Post Office in California 1900-1941 TR), 815 Court St., Martinez, AD12000265

Martinez Downtown Post Office (Additional Documentation), (Martinez, California MPS), 815 Court St., Martinez, AD12000265

Contra Costa County Hall of Records (Additional Documentation), (Martinez, California MPS), 725 Court St., Martinez, AD91001385

Nominations submitted by Federal Preservation Officers:

The State Historic Preservation Officer reviewed the following nominations and responded to the Federal Preservation Officer within 45 days of receipt of the nominations and supports listing the properties in the National Register of Historic Places.

MASSACHUSETTS

Hampden County

Springfield Armory (Additional Documentation), State, Federal, Pearl, and Byers Sts., Springfield, AD66000898

TENNESSEE

Rutherford County

Stones River National Battlefield (Boundary Increase), 3501 Old Nashville Hwy., Murfreesboro, BC100007434

Stones River National Battlefield (Additional Documentation), 3501 Old Nashville Hwy., Murfreesboro, AD66000075

Authority: Section 60.13 of 36 CFR part 60.

Dated: January 11, 2022.
Sherry A. Frear,
Chief, National Register of Historic Places/National Historic Landmarks Program.

[FR Doc. 2022-00893 Filed 1-18-22; 8:45 am]

BILLING CODE 4312-52-P